DEPARTMENT OF HOMELAND SECURITY

Coast Guard

[USCG-2006-24443]

Ballast Water Reporting by Foreign-flag Vessels Bound for the Great Lakes.

AGENCY: Coast Guard, DHS.

ACTION: Notice.

SUMMARY: The Coast Guard announces this notice as clarification of the ballast water reporting requirements for foreign-flag vessels bound for the Great Lakes from outside the U.S. Exclusive Economic Zone (EEZ).

DATES: This notice is effective on April 17, 2006.

FOR FURTHER INFORMATION CONTACT: If you have questions about this notice, contact LT Keith Donohue, Environmental Standards Division, Coast Guard, telephone 202-267-0500, e-mail: kdonohue@comdt.uscg.mil. If you have questions about viewing material on the docket, call Ms. Renee V. Wright, Program Manager, Docket Operations, telephone 202-493-0402.

SUPPLEMENTARY INFORMATION:

Background and Purpose

The reporting requirements of 33 CFR 151.2041 apply to all foreign-flag vessels with ballast water tanks that are bound for the Great Lakes, unless exempted by 33 CFR 151.2010 and 151.2015. Foreign-flag vessels do not include U.S. and Canadian-flag vessels. These requirements were amended by the final rule entitled “Penalties for Non-Submission of Ballast Water Management Reports,” published in the Federal Register on June 14, 2004. See 69 FR 32864. That final rule mandated that all foreign-flag vessels must provide the complete information required in 33 CFR 151.2045 when bound for the Great Lakes from beyond the EEZ, and gave these vessels two options for doing so.

The first option allows reports to be sent to the appropriate authority established in 33 CFR 151.2041(b)(1)(i) using the Coast Guard Ballast Water Reporting Form, OMB form Control No. 1625-0069.

As an alternative, 33 CFR 151.2041(b)(1)(ii) allows foreign-flag vessels to complete the ballast water information section of the St. Lawrence Seaway “Pre-entry Information from Foreign Flagged Vessels Form” and submit it in accordance with the applicable Seaway Notice. However, the Coast Guard highlights through this notice that, if this second option is used, the owners and operators of these vessels must still ensure they provide all the information required by 33 CFR 151.2045 to be in compliance with the ballast water reporting requirements. If the Pre-entry form used to make the applicable Seaway Notice does not provide ample space for all the information required by 33 CFR 151.2045, the information must still be provided. This can be accomplished either with an annotated version of the Pre-entry form or an accompanying Coast Guard Ballast Water Reporting Form. Also, if the information required by 33 CFR 151.2041 is submitted within the Seaway Notice 96 hours prior to arrival and the vessel's ballast information subsequently changes, an amended form must be submitted before the vessel departs the waters of the United States.

In addition, the Coast Guard published a Notice of Policy entitled “Ballast Water Management for Vessels Entering the Great Lakes that Declare No Ballast Onboard” in the Federal Register on August 31, 2005. See 70 FR 51831. The Coast Guard Ballast Water Reporting Form, with sections 4 and 5 properly completed, is the only means of documenting a vessel's implementation of the voluntary best management practices described in the August 31, 2005 Notice of Policy. See 70 FR 51831.

Finally, to further avoid confusion and reporting submission issues, the Coast Guard recommends each foreign-flag vessel that enters the Great Lakes from outside the EEZ should submit the required information using the Coast Guard Ballast Water Reporting Form to either the Coast Guard Captain of the Port Buffalo, Massena Detachment or the Saint Lawrence Seaway Development Corporation, at least 24 hours before the vessel arrives in Montreal, Quebec, in addition to the Pre-entry form required by the applicable Seaway Notice. The fax number for the Coast Guard Captain of the Port Buffalo, Massena Detachment is 315-769-5032, and the fax number for the Saint Lawrence Seaway Development Corporation is 315-764-3250.

Dated: April 5, 2006.
H.L. Hime,
Acting Director of Standards, Assistant Commandant for Prevention, U.S. Coast Guard.

[FR Doc. E6-5652 Filed 4-14-06; 8:45 am]

BILLING CODE 4910-15-P